DEPARTMENT OF AGRICULTURE

Foreign Agricultural Service

Adjustment of Appendices Under the Dairy Tariff-Rate Quota Import Licensing Regulation

AGENCY: Foreign Agricultural Service, USDA.

ACTION: Notice.

SUMMARY: This notice announces the transfer of amounts for certain dairy articles from the historical license category (Appendix 1) to the lottery (nonhistorical) license category (Appendix 2) pursuant to the Dairy Tariff-Rate Quota Import Licensing regulations for the 2022 quota year.

DATES: August 31, 2022.

FOR FURTHER INFORMATION CONTACT: Elizabeth Riley, (202) 720-6868, Elizabeth.riley@usda.gov.

SUPPLEMENTARY INFORMATION: The Foreign Agricultural Service, under a delegation of authority from the Under Secretary for Trade and Foreign Agricultural Affairs, administers the Dairy Tariff-Rate Import Quota Licensing Regulation codified at 7 CFR 6.20-6.36 that provides for the issuance of licenses to import certain dairy articles under tariff-rate quotas (TRQs) as set forth in the Harmonized Tariff Schedule (HTS) of the United States. These dairy articles may only be entered into the United States at the low-tier tariff by or for the account of a person or firm to whom such licenses have been issued and only in accordance with the terms and conditions of the regulation.

Licenses are issued on a calendar year basis, and each license authorizes the license holder to import a specified quantity and type of dairy article from a specified country of origin. The Imports Program, Foreign Agricultural Service, U.S. Department of Agriculture, issues these licenses and, in conjunction with U.S. Customs and Border Protection, U.S. Department of Homeland Security, monitors their use.

The regulation at 7 CFR 6.34(a) states that whenever a historical license (Appendix 1) is permanently surrendered, revoked by the Licensing Authority, or not issued to an applicant pursuant to the provisions of § 6.23, then the amount of such license will be transferred to Appendix 2. Section 6.34(b) provides that the cumulative annual transfers will be published by notice in the Federal Register. Accordingly, this document sets forth the revised Appendices in the table below. Although there are no changes to the quantities for designated licenses (Appendix 3 and Appendix 4), those numbers are also included in the table below for completeness.

Aileen Mannix,
Acting Licensing Authority, Foreign Agricultural Service.

Articles Subject to Dairy Import Licenses (Kilograms) ¹
| Historical licenses (Appendix 1) ² | Lottery licenses (Appendix 2) ³ | Sum of appendix 1 & 2 ⁴ | Designated licenses (Tokyo round, Appendix 3) ⁴ | Designated licenses (Uruguay Round, Appendix 4) ⁴ | Total ⁴
NON-CHEESE ARTICLES, Notes 6, 7, 8, 12, 14 (Appendix 1 reduction)
BUTTER (NOTE 6, Commodity Code G) (−5,529 kg) | 4,200,466 | 2,776,534 | 6,977,000 |  |  | 6,977,000
EU-27 | 53,445 | 28,654 | 82,099 |  |
New Zealand | 76,503 | 74,090 | 150,593 |  |  |
United Kingdom (−2,010 kg) | 7,144 | 6,918 | 14,062 |  |  |
Other Countries (−3,519 kg) | 31,863 | 42,072 | 73,935 |  |  |
Any Country | 4,031,511 | 2,624,800 | 6,656,311 |  |  |
DRIED SKIM MILK (NOTE 7, Commodity Code K) | 0 | 5,261,000 | 5,261,000 |  |  | 5,261,000
Australia | 0 | 600,076 | 600,076
Canada | 0 | 219,565 | 219,565 |  |  |
Any Country | 0 | 4,441,359 | 4,441,359 |  |  |
DRIED WHOLE MILK (NOTE 8, Commodity Code H) | 0 | 3,321,300 | 3,321,300 |  |  | 3,321,300
New Zealand | 0 | 3,175 | 3,175 |  |  |
Any Country | 0 | 3,318,125 | 3,318,125 |  |  |
DRIED BUTTERMILK/WHEY (NOTE 12, Commodity Code M) | 0 | 224,981 | 224,981 |  |  | 224,981
Canada | 0 | 161,161 | 161,161 |  |  |
New Zealand | 0 | 63,820 | 63,820 |  |  |
BUTTER SUBSTITUTES CONTAINING OVER 45 PERCENT OF BUTTERFAT AND/OR BUTTER OIL (NOTE 14, Commodity Code SU) | 0 | 6,080,500 | 6,080,500 |  |  | 6,080,500
Any Country | 0 | 6,080,500 | 6,080,500 |  |  |
TOTAL: NON-CHEESE ARTICLES (−5,529 kg) | 4,200,466 | 17,664,315 | 21,864,781 |  |  | 21,864,781
CHEESE ARTICLES (Notes 16, 17, 18, 19, 20, 21, 22, 23, 25)
CHEESE AND SUBSTITUTES FOR CHEESE (NOTE 16, Commodity Code OT) (−138,001 kg) | 16,883,403 | 14,586,328 | 31,469,731 | 9,661,128 | 7,496,000 | 48,626,859
Argentina | 0 | 7,690 | 7,690 | 92,310 |  | 100,000
Australia | 13,122 | 528,048 | 541,170 | 758,830 | 1,750,000 | 3,050,000
Canada (−13,616 kg) | 882,039 | 258,961 | 1,141,000 |  |  | 1,141,000
Costa Rica | 0 | 0 | 0 |  | 1,550,000 | 1,550,000
EU-27 (not including Portugal) (−67,071 kg) | 12,702,881 | 8,572,686 | 21,275,567 | 835,707 | 3,168,576 | 25,279,850
Portugal | 65,838 | 63,471 | 129,309 | 223,691 |  | 353,000
Israel | 79,696 | 0 | 79,696 | 593,304 |  | 673,000
Iceland | 29,054 | 0 | 294,000 | 29,000 |  | 323,000
New Zealand (−18,155 kg) | 1,314,690 | 3,500,782 | 4,815,472 | 6,506,528 |  | 11,322,000
Norway | 122,860 | 27,140 | 150,000 |  |  | 150,000
Switzerland (−6,304 kg) | 505,880 | 165,532 | 671,412 | 548,588 | 500,000 | 1,720,000
Uruguay | 0 | 0 | 0 |  | 250,000 | 250,000
United Kingdom (−32,855 kg) | 1,085,216 | 777,564 | 1,862,780 | 73,170 | 277,424 | 2,213,374
Other Countries | 82,127 | 119,508 | 201,635 |  |  | 201,635
Any Country | 0 | 300,000 | 300,000 |  |  | 300,000
BLUE-MOLD CHEESE (NOTE 17, Commodity Code B) (−7,846 kg) | 1,922,980 | 558,021 | 2,481,001 |  | 430,000 | 2,911,001
Argentina | 2,000 | 0 | 2,000 |  |  | 2,000
EU-27 (−4,467 kg) | 1,908,257 | 550,048 | 2,458,305 |  | 347,078 | 2,805,383
Chile | 0 | 0 | 0 |  | 80,000 | 80,000
United Kingdom (−3,379 kg) | 12,723 | 7,972 | 20,695 |  | 2,922 | 23,617
Other Countries | 0 | 1 | 1 |  |  | 1
CHEDDAR CHEESE (NOTE 18, Commodity Code C) (−30,504 kg) | 2,256,491 | 2,027,365 | 4,283,856 | 519,033 | 7,620,000 | 12,422,889
Australia (−9,352 kg) | 872,542 | 111,957 | 984,499 | 215,501 | 1,250,000 | 2,450,000
Chile | 0 | 0 | 0 | 0 | 220,000 | 220,000
EU-27 (−3,026 kg) | 13,619 | 69,918 | 83,537 | 0 | 333,515 | 417,052
New Zealand | 1,265,070 | 1,531,398 | 2,796,468 | 303,532 | 5,100,000 | 8,200,000
United Kingdom (−9,753 kg) | 26,006 | 153,457 | 179,463 | 0 | 716,485 | 895,948
Other Countries (−8,373 kg) | 79,254 | 60,635 | 139,889 |  |  | 139,889
Any Country | 0 | 100,000 | 100,000 |  |  | 100,000
AMERICAN-TYPE CHEESE (NOTE 19, Commodity Code A) (−9,474 kg) | 1,137,424 | 2,028,129 | 3,165,553 | 357,003 | 0 | 3,522,556
Australia (−4,939 kg) | 748,639 | 132,359 | 880,998 | 119,002 |  | 1,000,000
EU-27 | 131,539 | 222,461 | 354,000 |  |  | 354,000
New Zealand (−4,535 kg) | 154,190 | 1,607,809 | 1,761,999 | 238,001 |  | 2,000,000
Other Countries | 103,056 | 65,500 | 168,556 |  |  | 168,556
EDAM AND GOUDA CHEESE (NOTE 20, Commodity Code D) (−31,432 kg) | 4,239,135 | 1,367,267 | 5,606,402 | 0 | 1,210,000 | 6,816,402
Argentina | 105,418 | 19,582 | 125,000 |  | 110,000 | 235,000
EU-27 (−31,432 kg) | 4,017,909 | 1,271,091 | 5,289,000 |  | 1,100,000 | 6,389,000
Norway | 111,046 | 55,954 | 167,000 |  |  | 167,000
Other Countries | 4,762 | 20,640 | 25,402 |  |  | 25,402
ITALIAN-TYPE CHEESES (NOTE 21, Commodity Code D) (−40,879 kg) | 5,826,550 | 1,693,997 | 7,520,547 | 795,517 | 5,165,000 | 13,481,064
Argentina (−22,688 kg) | 3,507,548 | 617,935 | 4,125,483 | 367,517 | 1,890,000 | 6,383,000
EU-27 (−18,191 kg) | 2,319,002 | 1,062,998 | 3,382,000 |  | 2,025,000 | 5,407,000
Romania | 0 | 0 | 0 |  | 500,000 | 500,000
Uruguay | 0 | 0 | 0 | 428,000 | 750,000 | 1,178,000
Other Countries | 0 | 13,064 | 13,064 |  |  | 13,064
SWISS OR EMMENTHALER CHEESE (NOTE 22, Commodity Code GR) (−845,981 kg) | 3,382,914 | 3,268,400 | 6,651,314 | 823,519 | 380,000 | 7,854,833
EU-27 (−818,903 kg) | 2,160,448 | 2,991,546 | 5,151,994 | 393,006 | 380,000 | 5,925,000
Switzerland (−4,740 kg) | 1,211,306 | 208,181 | 1,419,487 | 430,513 |  | 1,850,000
Other Countries (−22,338 kg) | 11,160 | 68,673 | 79,833 |  |  | 79,833
LOWFAT CHEESE (NOTE 23, Commodity Code LF) | 1,173,766 | 3,251,142 | 4,424,908 | 1,050,000 | 0 | 5,474,908
EU-27 | 1,173,766 | 3,251,141 | 4,424,907 |  |  | 4,424,907
Israel | 0 | 0 | 0 | 50,000 |  | 50,000
New Zealand | 0 | 0 | 0 | 1,000,000 |  | 1,000,000
Other Countries | 0 | 1 | 1 |  |  | 1
SWISS OR EMMENTHALER CHEESE WITH EYE FORMATION (NOTE 25, Commodity Code SW) (−119,036 kg) | 12,864,355 | 9,432,976 | 22,297,331 | 9,557,945 | 2,620,000 | 34,475,276
Argentina | 0 | 9,115 | 9,115 | 70,885 |  | 80,000
Australia | 209,698 | 0 | 209,698 | 290,302 |  | 500,000
Canada | 0 | 0 | 0 | 70,000 |  | 70,000
EU-27 (−9,148 kg) | 9,644,594 | 6,832,234 | 16,476,828 | 4,003,172 | 2,420,000 | 22,900,000
Iceland | 0 | 149,999 | 149,999 | 150,001 |  | 300,000
Israel (−27,000 kg) | 0 | 27,000 | 27,000 |  |  | 27,000
Norway (−77,456 kg) | 2,207,873 | 1,447,437 | 3,655,310 | 3,227,690 |  | 6,883,000
Switzerland | 759,369 | 924,736 | 1,684,105 | 1,745,895 | 200,000 | 3,630,000
Other Countries (−5,432 kg) | 42,821 | 42,455 | 85,276 |  |  | 85,276
TOTAL: CHEESE ARTICLES (−1,223,153 kg) | 49,687,018 | 38,213,625 | 87,900,643 | 22,764,145 | 24,921,000 | 135,585,788
TOTAL: CHEESE & NON-CHEESE | 53,887,484 | 55,877,940 | 109,765,424 | 22,764,145 | 24,921,000 | 157,450,569
¹ Source of the total TRQs is the U.S. Harmonized Tariff Schedule, Chapter 4, in the corresponding Additional U.S. Notes.
² Reduced from 2021 by a total of -1,228,682 kg.
³ Increased from 2021 by a total of 1,228,682 kg.
⁴ No change.

[FR Doc. 2022-18745 Filed 8-30-22; 8:45 am]

BILLING CODE 3410-10-P